DEPARTMENT OF LABOR

Employment and Training Administration

[TA-W-70,457; TA-W-70,457a]

Core Manufacturing, Multi-Plastics, Inc., Division, Sipco, Inc., Division, Including Leased Workers of M-Ploy Temporaries, Inc., Saegertown, PA; Sipco Molding Technologies, Meadville, PA; Amended Certification Regarding Eligibility To Apply for Worker Adjustment Assistance

In accordance with section 223 of the Trade Act of 1974, as amended (“Act”), 19 U.S.C. 2273, the Department of Labor issued a Certification of Eligibility to Apply for Worker Adjustment Assistance on November 13, 2009, applicable to workers of Core Manufacturing, Multi-Plastics, Inc., Division and Sipco, Inc., Division, including leased workers of M-Ploy Temporaries, Inc., Saegertown, Pennsylvania. The Department's Notice was published in the Federal Register on January 25, 2010 (75 FR 3935).

After the certification was issued, the Department received new information that revealed that the worker group includes workers at an auxiliary facility operating in conjunction with the Saegertown, Pennsylvania facility.

Accordingly, the Department is amending this certification to property reflect this matter.

The intent of the Department's amended certification is to include all workers of the subject firm who are adversely-impacted secondary workers.

The amended notice applicable to TA-W-70,457 is hereby issued as follows:

“All workers of Core Manufacturing, Multi-Plastics, Inc., Division and Sipco, Inc., Division, including leased workers of M-Ploy Temporaries, Inc., Saegertown, Pennsylvania (TA-W-70,457) and Sipco Molding Technologies, Meadville, Pennsylvania (TA-W-70,457A), who became totally or partially separated from employment on or after May 20, 2008, through November 13, 2011, and all workers in the group threatened with total or partial separation from employment on November 13, 2009 through November 13, 2011, are eligible to apply for adjustment assistance under Chapter 2 of Title II of the Trade Act of 1974, as amended.”

Signed in Washington, DC, this 16th day of March, 2010.
Del Min Amy Chen,
Certifying Officer, Division of Trade Adjustment Assistance.

[FR Doc. 2010-7498 Filed 4-1-10; 8:45 am]

BILLING CODE P